DEPARTMENT OF HEALTH AND HUMAN SERVICES

Administration for Children and Families

Submission for OMB Review; Intergovernmental Reference Guide (IRG) OMB #0970-0209

AGENCY: Office of Child Support Enforcement; Administration for Children and Families; HHS

ACTION: Request for public comment.

SUMMARY: The Intergovernmental Reference Guide (IRG) is a centralized and automated repository of state and tribal profiles that contains high-level descriptions of each state and tribal child support enforcement (CSE) program. These profiles provide state, tribal, and foreign country CSE agencies with an effective and efficient method for updating and accessing information needed to process intergovernmental child support cases.

DATES: Comments due within 30 days of publication. The Office of Management and Budget (OMB) is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research and Evaluation, 330 C Street SW, Washington, DC 20201, Attn: ACF Reports Clearance Officer. All requests, emailed or written, should be identified by the title of the information collection.

SUPPLEMENTARY INFORMATION:

Description: The Office of Child Support Enforcement (OCSE) is proposing to add a new section (Section O) with six questions pertaining to family violence in the state profile. This will help process intergovernmental cases with family violence and will help ensure the safety of children and families. OCSE is also proposing to delete Sections A-L (140 questions) from the tribal profile and create new sections (Sections A-D) with 11 questions regarding case processing. This will assist in the efficient processing of paternity and support obligations.

Respondents: State and tribal CSE agencies.

Annual Burden Estimates
Information collection instrument | Total number of respondents | Number of responses per respondent | Average burden hour per response | Annual burden hours
IRG: State Profile Guide (states and territories) | 54 | 18 | 0.3 | 292
IRG: Tribal Profile Guide | 62 | 18 | 0.3 | 335

Estimated Total Annual Burden Hours: 627.

Authority for the IRG information collection activities is: (1) 42 U.S.C. 652(a)(7), which requires the federal OCSE to provide technical assistance to state child support enforcement agencies to help them establish effective systems for collecting child and spousal support; (2) 42 U.S.C. 666(f), which requires states to enact the Uniform Interstate Family Support Act; (3) 45 CFR. 301.1, which defines an intergovernmental case to include cases between states and tribes; (4) 45 CFR. 303.7, which requires state CSE agencies to provide services in intergovernmental cases; and (5) 45 CFR. 309.120, which requires a tribal child support program to include intergovernmental procedures in its tribal IV-D plan.

Mary B. Jones,
ACF/OPRE Certifying Officer.

[FR Doc. 2020-07885 Filed 4-14-20; 8:45 am]

BILLING CODE 4184-41-P